AGENCY FOR INTERNATIONAL DEVELOPMENT

60-Day Notice of Proposed Information Collection: USAID Eligibility Questionnaire for HAVANA Act Payments

AGENCY: Agency for International Development.

ACTION: Notice of proposed information collection.

SUMMARY: The United States Agency for International Development (USAID) is seeking Office of Management and Budget (OMB) approval for the information collection described below. In accordance with the Paperwork Reduction Act of 1995, we are requesting comments on this collection from all interested individuals and organizations. The purpose of this notice is to allow 60 days for public comment preceding submission of the collection to OMB.

DATES: USAID will accept comments from the public. All comments should be submitted within 60 calendar days from the date of this publication.

ADDRESSES: Interested parties may submit comments by one of the following methods:

Email: AHIRule@usaid.gov with the subject line, HAVANA ACT INFORMATION COLLECTION.

Internet: At www.Regulations.gov, search for this document using the subject line, USAID HAVANA ACT PAYMENTS.

Note that all submissions to www.regulations.gov are public, and USAID cannot edit the comments to remove personal information. If you have any concerns about your comment being viewed by the public, please use the email option above.

FOR FURTHER INFORMATION CONTACT: Direct requests for additional information regarding the collection listed in this notice, including requests for copies of the proposed collection instrument and supporting documents, should be sent to A. Michael Stern, USAID AHI Working Group Coordinator, HARuleInfo@usaid.gov, (202) 712-5568.

SUPPLEMENTARY INFORMATION:

Title of Information Collection: Eligibility Questionnaire for HAVANA Act Payments.

Type of Request: New request for approval of information collection method.

Originating Office: Office of Human Capital and Talent Management.

Form Number: AID 442-1.

Respondents: USAID employees, former employees, and their dependents, and the qualified physicians whom they have consulted.

Estimated Number of Respondents: 30.

Estimated Number of Responses: 30.

Average Time per Response: 30 minutes.

Total Estimated Burden Time: 15 hours.

Frequency: Once.

Obligation to Respond: Required to Obtain or Retain a Benefit.

We are soliciting public comments to permit USAID to:

• Evaluate whether the proposed information collection is necessary for the proper functions of USAID.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

On October 8, 2021, President Biden signed the “Helping American Victims Affected by Neurological Attacks” (HAVANA) Act of 2021 (Pub. L. 117-46). In this statute, Congress authorized federal agencies to make payments to affected current employees, former employees, and their dependents for qualifying injuries to the brain. The AID 442-1 form provides the required medical substantiation for claims filed pursuant to the HAVANA Act and USAID's recent rule, which was issued in the Federal Register on June 26, 2023.

Methodology

An individual wishing to make a claim under the HAVANA Act will fill out the “Patient Demographics” portion of the AID 442-1, and provide it to a U.S. board-certified physician (currently certified by the American Board of Psychiatry and Neurology (ABPN) or the American Board of Physical Medicine and Rehabilitation (ABPMR)), who will complete the form after examining the individual and reviewing their records and will fax or email the completed form to USAID.

Aaron Michael Stern,
Supervisory Program Officer.

[FR Doc. 2024-04609 Filed 3-4-24; 8:45 am]

BILLING CODE 6116-01-P